DEPARTMENT OF DEFENSE

Department of the Army

[Docket ID: USA-2008-0046]

Privacy Act of 1974; System of Records

AGENCY: Department of the Army, DoD.

ACTION: Notice to amend a system of records.

SUMMARY: The Department of the Army is amending a system of records notice in its existing inventory of record systems subject to the Privacy Act of 1974, (5 U.S.C. 552a), as amended.

DATES: This proposed action will be effective without further notice on September 2, 2008 unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: July 25, 2008.
Patricia L. Toppings,
OSD Federal Register Liaison Officer, Department of Defense.

A0027-20d DAJA

System name:

Medical Expense Claim Files (February 22, 1993, 58 FR 10002).

Changes:

* * * * *

Authority for maintenance of the system:

Delete entry and replace with “10 U.S.C. 3013, Secretary of the Army; 42 U.S.C. 2651-3, Recovery by United States; Army Regulation 27-20, Claims; and E.O. 9397 (SSN).”

* * * * *

Storage:

Delete entry and replace with “Paper records in file folders and electronic storage media.”

* * * * *

Retention and disposal:

Delete entry and replace with “Records at the Judge Advocate General's Office are destroyed 10 years after final action; i.e., completion of litigation or determination that case will not be prosecuted. Claims settled by local Staff Judge Advocates are destroyed 6 years and 3 months after final action.”

* * * * *

A0027-20d DAJA

System name:

Medical Expense Claim Files.

System location:

Staff Judge Advocate Offices at Army commands, field operating agencies, installations and activities. A segment of the system is located at U.S. Army Claims Service, Fort Meade, MD 20755-5360.

Categories of individuals covered by the system:

Individuals who have received medical treatment at the expense of the U.S. Army as a result of a tortuous or negligent act of a third party; third parties causing medical care to be furnished to individuals entitled to medical care at Government expense.

Categories of records in the system:

Copies of medical and personnel records of individuals injured by a third party from whom the U.S. Army is seeking to recover the costs of medical care furnished the injured party; accident and police reports relating to the injury, claims investigation files; correspondence with attorneys representing the Army's interest; court documents; and similar pertinent documents.

Authority for maintenance of the system:

10 U.S.C. 3013, Secretary of the Army; 42 U.S.C. 2651-3, Recovery by United States; Army Regulation 27-20, Claims; and E.O. 9397 (SSN).

Purpose(s):

To negotiate with the tort-feasor or an insurance carrier, or to sue the same to collect the value of medical care furnished the injured party.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to the Department of Justice, appropriate U.S. Attorneys, civilian attorneys representing the injured party who agree also to represent the U.S. Army's claim, and opposing parties and their attorneys.

Information from this system of records may be disclosed to law students participating in a volunteer legal support program approved by the Judge Advocate General of the Army.

The `Blanket Routine Uses' set forth at the beginning of the Army's compilation of systems of records notices also apply to this system.

Policies and practices for storing, retrieving, accessing, retaining, and disposing of records in the system:

Storage:

Paper records in file folders and electronic storage media.

Retrievability:

By individual's surname, Social Security Number, and court docket number.

Safeguards:

Records are accessible only by authorized personnel who are properly instructed in the permissible use of the information.

Retention and disposal:

Records at the Judge Advocate General's Office are destroyed 10 years after final action; i.e., completion of litigation or determination that case will not be prosecuted. Claims settled by local Staff Judge Advocates are destroyed 6 years and 3 months after final action.

System manager(s) and address:

The Judge Advocate General, Headquarters, Department of the Army, Washington, DC 20310-2210.

Notification procedure:

Individuals seeking to determine whether information about themselves is contained in this system should address written inquiries to the Judge Advocate General, Headquarters, Department of the Army, Washington, DC 20310-2210.

Individual should provide full name, current address and telephone number, case number that appeared on documentation, any other information that will assist in locating pertinent records, and signature.

Record access procedures:

Individuals seeking access to information about themselves contained in this system should address written inquiries to the Judge Advocate General, Headquarters, Department of the Army, Washington, DC 20310-2210.

Individual should provide full name, current address and telephone number, case number that appeared on documentation, any other information that will assist in locating pertinent records, and signature.

Contesting record procedures:

The Army's rules for accessing records, and for contesting contents and appealing initial agency determinations are contained in Army Regulation 340-21; 32 CFR part 505; or may be obtained from the system manager.

Record source categories:

From the individual; Army records and reports; Office of Personnel Management; Department of Justice, U.S. Attorneys, opposing counsel, and similar pertinent sources.

Exemptions claimed for the system:

None.

[FR Doc. E8-17607 Filed 7-31-08; 8:45 am]

BILLING CODE 5001-06-P